DEPARTMENT OF HEALTH AND HUMAN SERVICES

Health Care Financing Administration

42 CFR Part 435

[HCFA-2086-F2]

RIN 0938-AJ96

Medicaid Program; Change in Application of Federal Financial Participation Limits: Delay of Effective Date

AGENCY: Health Care Financing Administration (HCFA), HHS.

ACTION: Final rule; delay of effective date.

SUMMARY: In accordance with the memorandum of January 20, 2001, from the Assistant to the President and Chief of Staff entitled “Regulatory Review Plan,” published on January 24, 2001 in the Federal Register, this action temporarily delays for 60 days the effective date of the rule entitled “Change in Application of Federal Financial Participation Limits” published in the January 11, 2001 Federal Register (66 FR 2316). That final rule changes the current requirement that limits Federal financial participation that must be applied before States use less restrictive income methodologies than those used by related cash assistance programs in determining eligibility for Medicaid. The effective date of that final rule, which would have been March 12, 2001, is now May 11, 2001.

The temporary 60-day delay in effective date is necessary to give Department officials the opportunity for further review and consideration of new regulations, consistent with the Assistant to the President's memorandum of January 20, 2001. To the extent that 5 U.S.C. section 553 applies to this action, it is exempt from notice and comment because it constitutes a rule of procedure under 5 U.S.C. section 553(b)(A). Alternatively, HCFA's implementation of this rule without opportunity for public comment, effective immediately upon publication today in the Federal Register, is based on the good cause exceptions in 5 U.S.C. section 553(b)(B) and 553(d)(3), in that seeking public comment is impracticable, unnecessary, and contrary to the public interest. Given the imminence of the effective date, seeking prior public comment on this temporary delay would have been impractical, as well as contrary to the public interest, in the orderly promulgation and implementation of regulations.

DATES: The effective date of the rule amending 42 CFR part 435 published in the January 11, 2001 Federal Register (66 FR 2316) is delayed 60 days until May 11, 2001.

FOR FURTHER INFORMATION CONTACT: Roy Trudel, (410) 786-3417.

(Catalog of Federal Domestic Assistance Program No. 93.778 Medical Assistance Program)

Dated: February 27, 2001.
Michael McMullan,
Acting Deputy Administrator, Health Care Financing Administration.
Approved: March 8, 2001.
Tommy G. Thompson,
Secretary.

[FR Doc. 01-6193 Filed 3-9-01; 8:45 am]

BILLING CODE 4120-01-P